NATIONAL INDIAN GAMING COMMISSION

Notice of Approval of Class III Tribal Gaming Ordinances

AGENCY: National Indian Gaming Commission.

ACTION: Notice.

SUMMARY: The purpose of this notice is to inform the public of class III gaming ordinances approved by the Chairman of the National Indian Gaming Commission.

EFFECTIVE DATE: This notice is effective upon date of publication in the Federal Register.

FOR FURTHER INFORMATION CONTACT: Ms. Frances Fragua, Office of General Counsel at the National Indian Gaming Commission, 202/632-7003, or by facsimile at 202/632-7066 (not toll-free numbers).

SUPPLEMENTARY INFORMATION: The Indian Gaming Regulatory Act (IGRA) 25 U.S.C. 2701 et seq., was signed into law on October 17, 1988. The IGRA established the National Indian Gaming Commission (Commission). Section 2710 of the IGRA authorizes the Commission to approve class II and class III tribal gaming ordinances. Section 2710(d)(2)(B) of the IGRA as implemented by 25 CFR section 522.8 (58 FR 5811 (January 22, 1993)) requires the Commission to publish, in the Federal Register, approved class III gaming ordinances.

The IGRA requires all tribal gaming ordinances to contain the same requirements concerning ownership of the gaming activity, use of net revenues, annual audits, health and safety, background investigation and licensing of key employees. The Commission, therefore, believes that publication of each ordinance in the Federal Register would be redundant and result in unnecessary cost to the Commission. The Commission believes that publishing a notice of approval of each class III gaming ordinance is sufficient to meet the requirements of 25 U.S.C. section 2710(d)(2)(B). Every approved gaming ordinance is posted on the Commission's Web site (http://www.nigc.gov) under Reading Room, Gaming Ordinances. Also, the Commission will make copies of approved class III ordinances available to the public upon request. Requests can be made in writing to the Office of General Counsel, National Indian Gaming Commission (Attention: Frances Fragua), 1441 L Street, NW., Suite 9100, Washington, DC 20005.

The following constitutes a consolidated list of all Tribes for which the Chairman has approved tribal gaming ordinances authorizing class III gaming.

1. Absentee-Shawnee Tribe of Oklahoma

2. Agua Caliente Band of Cahuilla Indians

3. Ak-Chin Indian Community

4. Alturas Indian Rancheria

5. Apache Tribe of Oklahoma

6. Arapaho Tribe of the Wind River Indians

7. Assiniboine & Sioux Tribes of Fort Peck

8. Augustine Band of Mission Indians

9. Bad River Band of Lake Superior Tribe of Chippewa

10. Barona Band of Mission Indians

11. Bay Mills Indian Community

12. Bear River Band of Rohnerville Rancheria

13. Berry Creek Rancheria of Tyme Maidu Indians

14. Big Lagoon Rancheria

15. Big Pine Paiute Tribe of the Owens Valley

16. Big Sandy Rancheria Band of Western Mono Indians

17. Big Valley Band of Pomo Indians

18. Blackfeet Tribe

19. Blue Lake Rancheria of California

20. Bois Forte Band of Minnesota Chippewa

21. Buena Vista Rancheria of Me-Wuk Indians

22. Burns Paiute Tribe

23. Cabazon Band of Mission Indians

24. Cachil Dehe Band of Wintun Indians of the Colusa Indian Community

25. Caddo Indians Tribe of Oklahoma

26. Cahto Tribe of the Laytonville Rancheria

27. Cahuilla Band of Mission Indians

28. California Valley Me-Wuk Tribe

29. Campo Band of Diegueno Mission Indians

30. Chemehuevi Indian Tribe

31. Cher-Ae Heights Indian Community of the Trinidad Rancheria

32. Cherokee Nation of Oklahoma

33. Cheyenne and Arapaho Tribes of Oklahoma

34. Cheyenne River Sioux Tribe

35. Chickasaw Nation of Oklahoma

36. Chicken Ranch Band of Me-wuk Indians

37. Chippewa Cree Tribe of the Rocky Boy's Reservation

38. Chitimacha Tribe of Louisiana

39. Choctaw Nation of Oklahoma

40. Citizen Band Potawatomi Indians of Oklahoma

41. Cloverdale Rancheria of Pomo Indians

42. Cocopah Indian Tribe

43. Coeur d'Alene Tribe

44. Colorado River Indian Tribes

45. Comanche Indian Tribe of Oklahoma

46. Confederated Salish and Kootenai Tribes of the Flathead Reservation

47. Confederated Tribes and Bands of the Yakama

48. Confederated Tribes of Coos, Lower Umpqua and Siuslaw

49. Confederated Tribes of the Chehalis Reservation

50. Confederated Tribes of the Colville Reservation

51. Confederated Tribes of the Grand Ronde Community

52. Confederated Tribes of the Siletz Indians of Oregon

53. Confederated Tribes of the Umatilla Indian Reservation

54. Confederated Tribes of the Warm Springs Reservation

55. Coquille Indian Tribe of Oregon

56. Coushatta Indian Tribe of Louisiana

57. Cow Creek Band of Umpqua Indians

58. Coyote Valley Band of Pomo Indians

59. Crow Creek Sioux Tribe

60. Crow Indian Tribe of Montana

61. Delaware Tribe of Indians of Oklahoma

62. Delaware Nation of Western Oklahoma

63. Dry Creek Rancheria of Pomo Indians

64. Eastern Band of Cherokee Indians of North Carolina

65. Eastern Shawnee Tribe of Oklahoma

66. Elem Indian Colony of Pomo Indians

67. Elk Valley Rancheria

68. Ely Shoshone Tribe

69. Enterprise Rancheria of the Maidu Indians

70. Ewiiaapaayp Band of Kumeyaay Indians

71. Fallon Paiute-Shoshone Tribes

72. Flandreau Santee Sioux Tribe

73. Fond du Lac Reservation

74. Forest County Potawatomi Community

75. Fort Belknap Indian Community

76. Fort Independence Indian Reservation

77. Fort McDermitt Paiute-Shoshone Indian Tribe

78. Fort McDowell Yavapai Nation of Arizona

79. Fort Mojave Indian Tribe

80. Gila River Indian Community

81. Grand Portage Band of Minnesota Indians

82. Grand Traverse Band of Ottawa and Chippewa

83. Greenville Rancheria of Maidu Indians

84. Grindstone Indian Rancheria of Wintun

85. Guidiville Indian Reservation

86. Habematolel Pomo of Upper Lake

87. Hannahville Indian Community

88. Ho-Chunk Nation of Wisconsin

89. Hoopa Valley Tribe

90. Hopland Band of Pomo Indians

91. Hualapai Indian Tribe

92. Huron Band of Potawatomi

93. Iowa Tribe of Kansas and Nebraska

94. Iowa Tribe of Oklahoma

95. Jackson Rancheria Band of Me-wuk Indians

96. Jamestown S'Klallam Tribe

97. Jena Band of Choctaw Indians

98. Jicarilla Apache Nation

99. Kaibab Band of Paiute Indians

100. Kalispel Tribe of Indians

101. Karuk Tribe of California

102. Kaw Nation of Oklahoma

103. Keweenaw Bay Indian Community

104. Kickapoo Traditional Tribe of Texas

105. Kickapoo Nation of Kansas

106. Kickapoo Tribe of Oklahoma

107. Kiowa Tribe of Oklahoma

108. Klamath Tribes of Oregon

109. Klawock Cooperative Association

110. Kootenai Tribe of Idaho

111. LaJolla Band of Luiseno Mission Indians

112. La Posta Band of Diegueno Mission Indians

113. Lac Courte Oreilles Band of Lake Superior Chippewa

114. Lac du Flambeau Band of Lake Superior Chippewa

115. Lac Vieux Desert Band of Lake Superior Chippewa

116. Las Vegas Paiute Tribe

117. Leech Lake Band of Ojibwe Indians

118. Little River Band of Ottawa Chippewa

119. Little Traverse Bay Bands of Odawa Indians

120. Lower Brule Sioux Tribe

121. Lower Elwha Klallam Tribe

122. Lower Sioux Indian Community

123. Lummi Tribe of the Lummi Reservation

124. Lytton Band of Pomo Indians

125. Manchester Band of Pomo Indians

126. Manzanita Band of Diegueno Mission Indians

127. Mashantucket Pequot Tribe of Connecticut

128. Match-E-Be-Nash-She-Wish Band of Potawatomi Indians of Michigan

129. Mechoopda Indian Tribe of Chico Rancheria

130. Menominee Indian Tribe of Wisconsin

131. Mescalero Apache Tribe

132. Miami Tribe of Oklahoma

133. Middletown Rancheria of Pomo Indians

134. Mille Lacs Band of Minnesota Chippewa

135. Mississippi Band of Choctaw Indians

136. Moapa Band of Pauites

137. Modoc Tribe of Oklahoma

138. Mohegan Indian Tribe of Connecticut

139. Mooretown Rancheria of Maidu Indians

140. Morongo Band of Cahuilla Mission Indians

141. Muckleshoot Indian Tribe

142. Muscogee (Creek) Nation of Oklahoma

143. Narragansett Indian Tribe

144. Navajo Nation

145. Nez Perce Tribe of Idaho

146. Nisqually Indian Tribe

147. Nooksack Indian Tribe of Washington

148. Northern Cheyenne Tribe

149. Oglala Sioux Tribe of Pine Ridge

150. Omaha Tribe of Nebraska

151. Oneida Nation of New York

152. Oneida Tribe of Indians of Wisconsin

153. Osage Tribe of Oklahoma

154. Otoe-Missouria Tribe of Oklahoma

155. Ottawa Tribe of Oklahoma

156. Paiute-Shoshone Indians of the Bishop Community of the Bishop Colony

157. Pala Band of Luiseno Mission Indians

158. Pascua Yaqui Tribe of Arizona

159. Paskenta Band of Nomlaki Indians

160. Pauma-Yuima Band of Luiseno Mission Indians

161. Pawnee Nation of Oklahoma

162. Pechanga Band of Luiseno Mission Indians

163. Peoria Tribe of Indians of Oklahoma

164. Picayune Rancheria of Chukchansi Indians

165. Pinoleville Indian Reservation

166. Pit River Tribe

167. Pokagon Band of Potawatomi Indians

168. Ponca Nation of Oklahoma

169. Ponca Tribe of Nebraska

170. Port Gamble S'Klallam Indian Community

171. Prairie Band of Potawatomi Nation in Kansas

172. Prairie Island Indian Community

173. Pueblo of Acoma

174. Pueblo of Isleta

175. Pueblo of Jemez

176. Pueblo of Laguna

177. Pueblo of Nambe

178. Pueblo of Pojoaque

179. Pueblo of San Felipe

180. Pueblo of San Juan

181. Pueblo of Sandia

182. Pueblo of Santa Ana

183. Pueblo of Santa Clara

184. Pueblo of Santo Domingo

185. Pueblo of Taos

186. Pueblo of Tesuque

187. Puyallup Tribe of Indians

188. Pyramid Lake Paiute Tribe

189. Quapaw Tribe of Indians of Oklahoma

190. Quechan Tribe of Fort Yuma

191. Quileute Tribe

192. Quinault Indian Tribe

193. Red Cliff Band of Lake Superior Chippewa Indians

194. Red Cliff, Sokaogon Chippewa and Lac Courte Oreilles Band

195. Red Lake Band of Chippewa Indians

196. Redding Rancheria

197. Redwood Valley Rancheria of Pomo Indians

198. Reno-Sparks Indian Colony

199. Resighini Rancheria of Coast Indian Community

200. Rincon San Luiseno Band of Mission Indians

201. Robinson Rancheria of Pomo Indians

202. Rosebud Sioux Tribe

203. Round Valley Indian Tribes

204. Rumsey Indian Rancheria of Wintun Indians

205. Sac & Fox Tribe of Mississippi in Iowa

206. Sac & Fox Nation of Missouri in Kansas and Nebraska

207. Saginaw Chippewa Indian Tribe of Michigan

208. Salt River Pima-Maricopa Indian Community

209. Samish Indian Tribe of Washington

210. San Carlos Apache Tribe of Arizona

211. San Manuel Band of Serrano Mission Indians

212. San Pasqual Band of Diegueno Mission Indians

213. Santa Rosa Band of Tachi Indians

214. Santa Ynez Band of Chumash Mission Indians

215. Santa Ysabel Band of Diegueno Mission Indians

216. Sauk-Suiattle Indian Tribe

217. Sault Ste. Marie Tribe of Chippewa Indians

218. Scotts Valley Band of Pomo Indians

219. Seminole Tribe of Florida

220. Seminole Tribe of Oklahoma

221. Seneca Nation of Indians of New York

222. Seneca-Cayuga Tribe of Oklahoma

223. Shakopee Mdewakanton Sioux Community

224. Shawnee Tribe of Oklahoma

225. Sherwood Valley Rancheria of Pomo Indians

226. Shingle Springs Band of Miwok Indians

227. Shoalwater Bay Indian Tribe

228. Shoshone-Bannock Tribes of Fort Hall

229. Shoshone Tribe of the Wind River Indian Reservation

230. Sisseton-Wahpeton Sioux Tribe of Lake Traverse Reservation

231. Skokomish Indian Tribe

232. Smith River Rancheria

233. Snoqualmie Tribe of Washington

234. Soboba Band of Mission Indians

235. Sokaogon Chippewa Community

236. Southern Ute Indian Tribe

237. Spirit Lake Sioux Tribe

238. Spokane Tribe of Indians

239. Squaxin Island Tribe

240. St. Croix Chippewa Indians of Wisconsin

241. St. Regis Mohawk Tribe of New York

242. Standing Rock Sioux Tribe

243. Stillaguamish Tribe of Indians

244. Stockbridge-Munsee Community

245. Suquamish Indian Tribe

246. Susanville Indian Rancheria

247. Swinomish Indian Tribal Community

248. Sycuan Band of Mission Indians

249. Table Mountain Rancheria

250. Three Affiliated Tribes of the Fort Berthold Reservation

251. Timbisha Shoshone Tribe

252. Tohono O'odham Nation

253. Tonkawa Tribe of Indians of Oklahoma

254. Tonto Apache Tribe

255. Torres Martinez Desert Cahuilla Indians

256. Tulalip Tribes of Washington

257. Tule River Tribe

258. Tunica-Biloxi Tribe of Louisiana

259. Tuolumne Band of Me-Wuk Indians

260. Turtle Mountain Band of Chippewa Indians

261. Twenty Nine Palms Band of Mission Indians

262. United Auburn Indian Community

263. Upper Sioux Community

264. Upper Skagit Indian Tribe of Washington

265. Ute Mountain Ute Tribe

266. U-tu Utu Gwaitu Paiute Tribe of Benton Paiute Reservation

267. Viejas Band of Mission Indians

268. Washoe Tribe of Nevada and California

269. White Earth Band of Minnesota Chippewa Indians

270. White Mountain Apache Tribe

271. Wichita and Affiliated Tribes of Oklahoma

272. Winnebago Tribe of Nebraska

273. Wiyot Tribe of Table Bluff Reservation

274. Wyandotte Nation of Oklahoma

275. Yankton Sioux Tribe

276. Yavapai Apache Nation of Camp Verde Indians

277. Yavapai-Prescott Indian Tribe

278. Yurok Tribe

Philip N. Hogen,
Chairman, National Indian Gaming Commission.

[FR Doc. E8-5248 Filed 3-14-08; 8:45 am]

BILLING CODE 7565-02-P